DEPARTMENT OF THE INTERIOR

Office of Surface Mining Reclamation and Enforcement

[S1D1S SS08011000 SX064A000 212S180110; S2D2S SS08011000 SX064A000 21XS501520]

Grant Notification for Fiscal Year 2021

AGENCY: Office of Surface Mining Reclamation and Enforcement, Interior.

ACTION: Notice.

SUMMARY: We, the Office of Surface Mining Reclamation and Enforcement (OSMRE), are notifying the public that we intend to grant funds to eligible applicants for purposes authorized under the Surface Mining Control and Reclamation Act of 1977 (SMCRA) Title IV Abandoned Mine Land (AML) Reclamation Program and Title V Regulatory Program. We will award these grants during fiscal year 2021.

DATES: Single points of contact or other interested State, Tribal, or local entities may submit written comments regarding AML Reclamation Program and Regulatory Program funding until June 28, 2021.

ADDRESSES: You may submit comments by any of the following methods:

• Electronic mail: Send your comments to yrichardson@osmre.gov.

• Mail, hand-delivery, or courier: Send your comments to Office of Surface Mining Reclamation and Enforcement, Attn: Grants Notice, Room 4551, 1849 C Street NW, Washington, DC 20240.

FOR FURTHER INFORMATION CONTACT: Yetunde Richardson, Office of Surface Mining Reclamation and Enforcement, 1849 C Street NW, MS 4551, Washington, DC 20240; Telephone (202) 208-2766.

SUPPLEMENTARY INFORMATION:

Grant Notification

We are notifying the public that we intend to grant funds to eligible applicants for purposes authorized under SMCRA's Title IV AML Reclamation Program and Title V Regulatory Program. We will award these grants during fiscal year 2021. Eligible applicants are those States and Tribes with an existing AML reclamation program and/or a regulatory program approved pursuant to SMCRA, as amended, 30 U.S.C. 1201 et seq., and, as provided in 30 U.S.C. 1295, those States and Tribes that are seeking to develop a regulatory program. Consistent with Executive Order 12372, we are providing State and Tribal officials the opportunity to review and comment on these proposed Federal financial assistance activities. Of the eligible applicants, nineteen States or Tribes do not have single points of contact; therefore, we are publishing this notice as an alternate means of notification.

Description of the AML Reclamation Program

SMCRA established the Abandoned Mine Reclamation Fund to receive the AML fees that, along with funds from other sources, are used to finance reclamation of AML coal mine sites and certain other purposes. Title IV of SMCRA authorizes OSMRE to provide grants, funded from permanent (mandatory) appropriations, to eligible States and Tribes. Recipients use these funds: To reclaim the highest priority AML coal mine sites that were abandoned prior to the enactment of SMCRA in 1977; to reclaim eligible non-coal sites; for projects that address the impacts of mineral development; and for non-reclamation projects.

Description of the Regulatory Program

Title V of SMCRA authorizes OSMRE to provide grants to States and Tribes to develop, administer, and enforce State and Tribal regulatory programs that address, among other things, the disturbances from coal mining operations. Additionally, upon our approval of a State or Tribal regulatory program, Title V authorizes that State or Tribe to assume regulatory primacy and act as the regulatory authority within the State or Tribe, and to administer and enforce its approved regulatory program. These provisions of SMCRA are implemented by our regulations at Title 30 of the Code of Federal Regulations, Chapter VII.

Glenda H. Owens,
Deputy Director, Office of Surface Mining Reclamation and Enforcement.

[FR Doc. 2021-11302 Filed 5-27-21; 8:45 am]

BILLING CODE 4310-05-P